DEPARTMENT OF EDUCATION

Notice of Proposed Information Collection Requests

AGENCY: Department of Education.

ACTION: Notice of Proposed Information Collection Requests.

SUMMARY: The IC Clearance Official, Regulatory Information Management Services, Office of Management, invites comments on the proposed information collection requests as required by the Paperwork Reduction Act of 1995.

DATES: An emergency review has been requested in accordance with the Act (44 U.S.C. Chapter 3507 (j)), since public harm is reasonably likely to result if normal clearance procedures are followed. Approval by the Office of Management and Budget (OMB) has been requested by June 27, 2008.

ADDRESSES: Written comments regarding the emergency review should be addressed to the Office of Information and Regulatory Affairs, Attention: Bridget Dooling, Desk Officer, Department of Education, Office of Management and Budget; 725 17th Street, NW., Room 10222, New Executive Office Building, Washington, DC 20503 or faxed to (202) 395-6974.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The IC Clearance Official, Regulatory Information Management Services, Office of Management, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment.

The Department of Education is especially interested in public comment addressing the following issues: (1) Is this collection necessary to the proper functions of the Department; (2) will this information be processed and used in a timely manner, (3) is the estimate of burden accurate; (4) how might the Department enhance the quality, utility, and clarity of the information to be collected, and (5) how might the Department minimize the burden of this collection on respondents, including through the use of information technology.

Dated: June 23, 2008.
Angela C. Arrington,
IC Clearance Official, Regulatory Information Management Services, Office of Management.

Federal Student Aid

Type of Review: New.

Title: Documents Associated with the Notice of Terms and Conditions of Purchase of Loans under the Ensuring Continued Access to Student Loans Act of 2008.

Abstract: As one of several measures intended to address concerns about the availability of loans under the Federal Family Education Loan (FFEL) Program during the 2008-2009 academic year, the Ensuring Continued Access to Student Loans Act of 2008 (ECASLA) provides the Department of Education (the Department) with temporary authority to purchase student loans from FFEL Program lenders. The documents included in this collection set forth the terms and conditions of the loan purchase program authorized by the ECASLA and collect the information from lenders that is required by the Department to administer the program.

Additional Information

The U.S. Department of Education (Department) requests that OMB grant an emergency clearance by June 27, 2008 for Loan Purchase Program information collection documents associated with the newly authorized authority to purchase loans, as per the Ensuring Continued Access to Student Loans Act of 2008 (“ECASLA”):

1. Master Participation Agreement, with exhibits;

2. Master Loan Sale Agreement, with exhibits; and

3. Additional documents forthcoming specifying data intended to be collected.

Section 459A of the Higher Education Act (“HEA”), signed into law on May 7, 2008, provides that the Secretary of Education, the Secretary of the Treasury, and the Director of the Office of Management and Budget must jointly determine the terms and conditions of this newly authorized loan purchase program. These information collection documents set forth those terms and aid in the administration of the program.

The Loan Purchase Program was established under the HEA by the ECASLA. Congress passed this law to remedy market conditions threatening the ability of student lenders to make student loans for the 2008-2009 academic year. While loans for the academic year can be originated as early as May, the bulk of originations occur during the period from July through August. To ensure that student lenders are able to utilize the Loan Purchase Program, the Documents must be reviewed by lenders in advance of final publication of the Notice of Terms and Conditions of Purchase of Loans under the Ensuring Continued Access to Student Loans Act of 2008. As such, the lending community must have final, approved versions of the Documents no later than June 27, 2008 to ensure that they will be able to utilize the Loan Purchase Program in time for the 2008-2009 academic year. The Department thus requests emergency clearance because the regular clearance process would not enable us to make an OMB-approved set of Documents available to lenders seeking to make student loans during the 2008-2009 academic year.

Upon receiving emergency clearance of the Documents, the Department will submit the ECASLA Loan Purchase Program documents for regular clearance process, including notice of a 60-day public comment period.

Frequency: On Occasion.

Affected Public: Businesses or other for-profit.

Reporting and Recordkeeping Hour Burden:

Responses: 9,650.

Burden Hours: 22,800.

Requests for copies of the proposed information collection request may be accessed from http://edicsweb.ed.gov, by selecting the “Browse Pending Collections” link and by clicking on link number 3748. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements, should be electronically mailed to ICDocketMgr@ed.gov. Individuals who use a telecommunications device for the deaf (TDD) may call the Federal Information Relay Service (FIRS) at 1-800-877-8339.

[FR Doc. E8-14540 Filed 6-25-08; 8:45 am]

BILLING CODE 4000-01-P